DEPARTMENT OF TRANSPORTATION

Pipeline and Hazardous Materials Safety Administration

Office of Hazardous Materials Safety, Notice of Application for Exemptions

AGENCY: Pipeline and Hazardous Materials Safety Administration, DOT>

ACTION: List of Applications for Exemption.

SUMMARY: In accordance with the procedures governing the application for, and the processing of, exemptions from the Department of Transportation's Hazardous Material Regulations (49 CFR part 107, subpart B), notice is hereby given that the Office of Hazardous Materials Safety has received the application described herein. Each mode of transportation for which a particular exemption is requested is indicated by a number in the “Nature of Application” portion of the table below as follows: 1—Motor vehicle, 2—Rail Freight, 3—Cargo vessel, 4—Cargo aircraft only, 5—Passenger-carrying aircraft.

DATES: Comments must be received on or before August 15, 2005.

ADDRESS COMMENTS TO: Record Center, Pipeline and Hazardous Materials Safety Administration, U.S. Department of Transportation, Washington, DC 20590.

Comments should refer to the application number and be submitted in triplicate. If confirmation of receipt of comments is desired, include a self-addressed stamped postcard showing the exemption number.

FOR FURTHER INFORMATION CONTACT: Copies of the applications are available for inspection in the Records Center, Nassif Building, 400 7th Street, SW.

This notice of receipt of applications for modification of exemption is published in accordance with part 107 of the Federal hazardous materials transportation law (49 U.S.C. 5117(b); 49 CFR 1.53(b)).

Issued in Washington, DC on July 11, 2005.
R. Ryan Posten,
Exemptions Program Officer, Office of Hazardous Materials Safety, Exemptions & Approvals.

New Exemption
Application No. | Docket No. | Applicant | Regulation(s) affected | Nature of exemption thereof
14209-N | PHMSA 05-21801 | ABB Power Technologies, AB Alamo, TN | 49 CFR 173.302a | To authorize the manufacture, mark, sale and use of a non-DOT specification composite cylinder for the transportation of compressed air. (modes 1, 2, 3, 4).
14210-N | PHMSA 05-21803 | Arbel-Fauvet-Rail, Paris, FR | 49 CFR 178.276(b)(1) | To authorize the manufacture, marking, sale and use of certain portable tanks permanently fixed within ISO frames designed in accordance with Section VIII, Division 2 of the ASME Code for use in transporting Division 2.1 and 2.2 hazardous materials. (modes 1, 2, 3).
14212-N | PHMSA 05-21804 | Clean Harbors Environmental Services, Inc., North Andover, MA | 49 CFR 177.848(d) | To authorize the transportation in commerce of 30-gallon drums containing only residue of sulfuryl chloride on the same motor vehicle with Division 4.3 materials. (mode 1).
14213-N | PHMSA 05-21807 | Greif Bros. Corporation, Delaware, OH | 49 CFR 173.158 | To authorize the manufacture, marking, sale and use of 55-gallon UN 1H1 drums for shipment of up to 40% nitric acid. (modes 1, 2, 3).
14214-N | PHMSA 05-21808 | Input/Output Marine Systems, Harahan, LA | 49 CFR 173.6 | To authorize the transportation in commerce of certain lithium batteries as materials of trade. (mode 1).
14215-N | PHMSA 05-21809 | U.S. Department of Energy, Washington, DC | 49 CFR 173.420 | To authorize the one-time transportation in commerce of certain DOE-owned uranium hexafluoride cylinders using a UX-30 overpack. (mode 1).
14216-N | PHMSA 05-21813 | ATK Thiokol, Inc., Brigham City, UT | 49 CFR 173.51, 173.56, 173.62 | To authorize the transportation in commerce of unapproved explosive articles and materials in non-DOT specification packaging by highway between ATK facilities within Utah. (mode 1).
14218-N | PHMSA 05-21815 | Air Logistics of Alaska, Inc., Fairbanks, AK | 49 CFR 175.33 | To authorize an alternative method of notification to the pilot-in-command when transporting hazardous materials by cargo-only aircraft in remote areas within the State of Alaska. (mode 4).
14219-N | PHMSA 05-21818 | PSEG Nuclear LLC, Hancock's Bridge, NJ | 49 CFR 173.403, 173.427, 173.465 | To authorize the one-way transportation in commerce by motor vehicle of two Reactor Vessel Closure Head packages containing Class 7 material. (modes 1, 3).
14221-N | PHMSA 05-21820 | U.S. Department of Energy, Washington, DC | 49 CFR 173.420 and 173.465 | To authorize the one-time exclusive use shipment of approximately 1,000 non-DOT specification uranium hexafluoride cylinders. (mode 1).
14222-N | PHMSA 05-21821 | Clean Harbors Environmental Services, Inc., Bridgeport, NJ | 49 CFR 173.240 | To authorize the transportation in commerce of a hazardous waste (boiler stacks) on a flatbed motor vehicle. (mode 1).
14223-N |  | Technical Concepts, Mundelein, IL | 49 CFR 173.306(a)(1) and 173.306(a)(3)(v) | To authorize the transportation in commerce of Division 2.1 aerosols in plastic packagings. (mode 1).

[FR Doc. 05-13952 Filed 7-14-05; 8:45 am]

BILLING CODE 4909-60-M